DEPARTMENT OF THE INTERIOR

National Park Service

[NPS-WASO-NAGPRA-15975;PPWOCRADN0-PCU00RP14.R50000]

Notice of Inventory Completion: Hamilton County Department of Parks and Recreation, Hamilton County, IN; Correction

AGENCY: National Park Service, Interior.

ACTION: Notice; correction.

SUMMARY: The Hamilton County Department of Parks and Recreation, a political subdivision of Hamilton County, IN, has corrected an inventory published in a Notice of Inventory Completion in the Federal Register on July 30, 2013. This notice corrects the number of associated funerary objects for site 12 H 883. Lineal descendants or representatives of any Indian tribe or Native Hawaiian organization not identified in this notice that wish to request transfer of control of these associated funerary objects should submit a written request to the Hamilton County Department of Parks and Recreation. If no additional requestors come forward, transfer of control of the associated funerary objects to the lineal descendants, Indian tribes, or Native Hawaiian organizations stated in this notice may proceed.

DATES: Lineal descendants or representatives of any Indian tribe or Native Hawaiian organization not identified in this notice that wish to request transfer of control of associated funerary object should submit a written request with information in support of the request to the Hamilton County Department of Parks and Recreation at the address in this notice August 20, 2014.

ADDRESSES: Allen W. Patterson, Superintendent, Hamilton County Department of Parks and Recreation, 15513 S. Union St., Carmel, IN 46033, telephone (314) 770-4400, email allen.patterson@hamiltoncounty.in.gov.

SUPPLEMENTARY INFORMATION: Notice is here given in accordance with the Native American Graves Protection and Repatriation Act (NAGPRA), 25 U.S.C. 3003, of the correction of an inventory under the control of the Hamilton County Department of Parks and Recreation, Carmel, IN. The associated funerary object was removed from Strawtown Koteewi Park, Hamilton County, IN.

This notice is published as part of the National Park Service's administrative responsibilities under NAGPRA, 25 U.S.C. 3003(d)(3). The determinations in this notice are the sole responsibility of the museum, institution, or Federal agency that has control of the Native American associated funerary objects. The National Park Service is not responsible for the determinations in this notice.

This notice corrects the number of associated funerary objects published in a Notice of Inventory Completion in the Federal Register (78 FR 45956-45957, July 30, 2013). This correction is being made to include a pot discovered in association with a Native American grave that was discussed at consultation but was not concluded until after the initial publication of the Notice of Inventory Completion cited above. Transfer of control of the item in this correction notice has not occurred.

Correction:

In the Federal Register (78 FR 45956-45957, July 30, 2013), paragraph 9, sentence five is corrected by replacing the number 151 with the number 152.

In the Federal Register (78 FR 45956-45957, July 30, 2013), paragraph 10, add the following sentence at the end of the paragraph: One associated funerary object, a shell tempered Taylor Village-style vessel, was removed in 2007 from site 12H883, and was reburied without exposing the burial.

In the Federal Register (78 FR 45956-45957, July 30, 2013), paragraph 15 is corrected by replacing the number 151 with the number 152.

Additional Requestors and Disposition

Lineal descendants or representatives of any Indian tribe or Native Hawaiian organization not identified in this notice that wish to request transfer of control of this associated funerary object should submit a written request with information in support of the request to Allen W. Patterson, Superintendent, Hamilton County Department of Parks and Recreation, telephone 317-770-4401, email: allen.patterson@hamiltoncounty.in.gov, by August 20, 2014. After that date, if no additional requestors have come forward, transfer of control of the associated funerary object to the Delaware Nation, Oklahoma, and the Miami Tribe of Oklahoma may proceed.

The Hamilton County Department of Parks and Recreation is responsible for notifying the Absentee-Shawnee Tribe of Indians of Oklahoma; Delaware Nation, Oklahoma; Eastern Shawnee Tribe of Oklahoma; Miami Tribe of Oklahoma; Pokagon Band of Potawatomi Indians, Michigan and Indiana; and the Shawnee Tribe that this notice has been published.

Dated: June 6, 2014.
Melanie O'Brien,
Acting Manager, National NAGPRA Program.

[FR Doc. 2014-17089 Filed 7-18-14; 8:45 am]

BILLING CODE 4312-50-P